DEPARTMENT OF AGRICULTURE

Federal Crop Insurance Corporation

7 CFR Part 457

RIN 0563-AB92

Common Crop Insurance Regulations, Apple Crop Insurance Provisions; Correction

AGENCY: Federal Crop Insurance Corporation, USDA.

ACTION: Final rule; correction.

SUMMARY: The document contains a correction to the final regulation which was published Friday, August 27, 2004 (69 FR 52583-52594). The regulation pertains to the insurance of apples.

EFFECTIVE DATE: October 28, 2004.

FOR FURTHER INFORMATION CONTACT: Gary Johnson, Risk Management Specialist, Research and Development, Product Development Division, Federal Crop Insurance Corporation, United States Department of Agriculture, 6501 Beacon Drive, Stop 0812, Room 426, Kansas City, MO 64133-4676, telephone (816) 926-7730.

SUPPLEMENTARY INFORMATION:

Background

The final regulation that is the subject of this correction was intended to provide policy changes to better meet the needs of the insured and include the apple crop insurance regulations with the Common Crop Insurance Policy for ease of use and consistency of terms.

Need For Correction

As published, the final regulation contained errors which may prove to be misleading and need to be clarified.

Correction of Publication

Accordingly, the publication on August 27, 2004, of the final regulation at 69 FR 52583-52594 is corrected as follows:

PART 457—[CORRECTED]

1. The authority citation for 7 CFR part 457 continues to read as follows:

Authority: 7 U.S.C. 1506(l) and 1506(p).

2. Amend § 457.158 as follows:

a. In section 2, remove the paragraph (a) designation, and redesignate paragraphs (1) and (2) as paragraphs (a) and (b);

b. In section 10(a)(7), add the word “the” between the words “of” and “irrigation'';

c. In section 11(c), remove the phrase “include it” and insert the word “included” in its place;

d. In section 12(a), remove the comma after the word “event'';

e. In section 14(b)(5)(v), revise the citation “14(b)(i)” to read 14(b)(5)(i);

f. In the example in section 14, the last sentence after the word “option” is corrected to add as a separate paragraph leading into the example of the Optional Coverage for Fresh Fruit Quality Adjustment.

g. In the example in section 14, section B is amended by removing the semicolon after the word “apples”;

h. In the example in section 14, section D is amended by revising section vii and adding a new section viii to read as set forth below; and

i. In the example in section 14, sections E, F, and G are revised to read as set forth below.

The revisions and additions read as follows:

§ 457.158 Apple crop insurance provisions.

* * * * *

14. Optional Coverage for Fresh Fruit Quality Adjustment.

* * * * *

D. * * *

vii. 5,000 bushels of apples that graded U.S. No. 1 or better minus 3,050 bushels of fresh apple production not grading U.S. Fancy or better = 1,950 bushels of fresh apple production to count.

viii. 1,950 bushels of fresh apples production to count × $9.10 = $17,745.00 value of the fresh apple production to count; 1,000 bushels of harvested marketable processing apple production to count × $4.76 price election = $4,760.00 value of the processing apple production to count;

E. $17,745.00 value of the fresh apple production to count + $4,760.00 value of the processing apple production to count = $22,505.00 total value of production to count;

F. $68,880.00 total value of guarantee for all apple acreage − $22,505.00 total value of production to count = $46,375.00 value of loss; and

G. $46,375.00 value of loss × 100 percent share = $46,375.00 indemnity payment.

* * * * *

Signed in Washington, DC on October 19, 2004.
Ross J. Davidson, Jr.,
Manager, Federal Crop Insurance Corporation.

[FR Doc. 04-23982 Filed 10-27-04; 8:45 am]

BILLING CODE 3410-08-P